DEPARTMENT OF THE TREASURY

Internal Revenue Service

26 CFR Part 300

[REG-100719-21]

RIN 1545-BQ26

User Fees Relating to Enrolled Actuaries; Correction

AGENCY: Internal Revenue Service (IRS), Treasury.

ACTION: Correction to a notice of proposed rulemaking and notice of public hearing.

SUMMARY: This document contains a correction to a notice of proposed rulemaking and notice of public hearing (REG-100719-21) published in the Federal Register on October 5, 2022. The notice of proposed rulemaking contains proposed amendments to the regulations relating to user fees for enrolled actuaries.

DATES: Written or electronic comments are being accepted and must be received by December 19, 2022. Requests to speak and outlines of topics to be discussed at the public hearing scheduled for January 9, 2023, at 10:00 a.m. EST must be received by December 19, 2022.

ADDRESSES: Commenters are strongly encouraged to submit public comments electronically. Submit electronic submissions via the Federal eRulemaking Portal at www.regulations.gov (indicate IRS and REG-100719-21) by following the online instructions for submitting comments. Once submitted to the Federal eRulemaking Portal, comments cannot be edited or withdrawn. The Department of the Treasury (Treasury Department) and the IRS will publish any comment to the public docket for public availability. Send paper submissions to: CC:PA:LPD:PR (REG-100719-21), Room 5203, Internal Revenue Service, P.O. Box 7604, Ben Franklin Station, Washington, DC 20044.

FOR FURTHER INFORMATION CONTACT: Concerning the proposed regulation, Carolyn M. Lee at (202) 317-6845; concerning cost methodology, Michael A. Weber at (202) 808-9738; and concerning submission of comments, the hearing, and the access code to attend the hearing by telephone, Regina Johnson, 202-317-6901 (not toll-free numbers) or publichearings@irs.gov.

SUPPLEMENTARY INFORMATION:

Background

The proposed regulations and notice of public hearing subject to this correction are under section 9701 of Title 31 of the United States Code.

Correction of Publication

Accordingly, the notice of proposed rulemaking and notice of public hearing (REG-100719-21) that is the subject of FR Doc. 2022-21458, published on October 5, 2022 (87 FR 60357), is corrected to read as follows:

1. On page 60358, in the first column, under the caption DATES, the paragraph is corrected to read, “Electronic or written comments must be received by December 19, 2022. The public hearing will be held by teleconference on January 9, 2023, at 10:00 a.m. EST. Requests to speak and outlines of topics to be discussed at the public hearing must be received by December 19, 2022. The public hearing will be canceled if no outlines are received by December 19, 2022. Requests to attend the public hearing must be received by 5:00 p.m. EST on January 5, 2023. The telephonic hearing will be made accessible to people with disabilities. Requests for special assistance during the telephonic hearing must be received by January 4, 2023.”

2. On page 60360, in the first column, the fifth and sixth lines from the top of the column, the language “https://files.fasab.gov/pdffiles/2021_%20FASAB_%20Handbook.pdf” is corrected to read “https://files.fasab.gov/pdffiles/2022_%20FASAB_%20Handbook.pdf”.

3. On page 60360, in the third column, the last line in the table in the second paragraph showing the estimated costs for direct labor and benefits by year, the language“1,673,217” is corrected to read “$1,673,217.”

4. On page 60361, in the first column, the third line in the table preceding the first paragraph, the language “2,674,248” is corrected to read “$2,674,248.”

5. On page 60361, in the third column, the fifth and sixth lines from the top of the last paragraph, the language “such requirements that” is corrected to read “the requirements and”.

6. On page 60362, in the second column, under the caption Comments and Public Hearing, in the second full paragraph, the language “December 16, 2022” is corrected to read “January 9, 2023;” and the language “December 5, 2022” is corrected to read “December 19, 2022.”

Oluwafunmilayo A. Taylor,
Branch Chief, Publications and Regulations Branch, Legal Processing Division, Associate Chief Counsel, (Procedure and Administration).

[FR Doc. 2022-24452 Filed 11-8-22; 8:45 am]

BILLING CODE 4830-01-P